CONSUMER PRODUCT SAFETY COMMISSION

[Docket No. CPSC-2012-0028]

Privacy Act of 1974; Revision and Republication of Systems of Records

AGENCY: Consumer Product Safety Commission.

ACTION: Notice of Revision and Republication of Systems of Records.

SUMMARY: The Consumer Product Safety Commission (“CPSC” or “Commission”) is revising various Privacy Act systems of records maintained by the Commission. The CPSC is also republishing the agency's complete systems of records.

DATES: Comments on the new systems of records must be received on or before July 17, 2012. The new system of records will become effective August 1, 2012, unless comments are received by that date that justify a contrary determination.

ADDRESSES: You may submit comments, identified by Docket No. CPSC-2012-0028, by any of the following methods:

Electronic Submissions

Submit electronic comments in the following way:

Federal eRulemaking Portal: http://www.regulations.gov. Follow the instructions for submitting comments.

To ensure timely processing of comments, the Commission is no longer accepting comments submitted by electronic mail (email), except through www.regulations.gov.

Written Submissions

Submit written submissions in the following way:

Mail/Hand delivery/Courier (for paper, disk, or CD-ROM submissions), preferably in five copies, to: Office of the Secretariat, Consumer Product Safety Commission, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov.

FOR FURTHER INFORMATION CONTACT: For further information contact: Mary James, Office of Information and Technology Services, Consumer Product Safety Commission, 4330 East West Highway, Bethesda, MD 20814; (301) 504-7213, or by email to: mjames@cpsc.gov.

SUPPLEMENTARY INFORMATION: Under the Privacy Act of 1974 (“Privacy Act”), 5 U.S.C. 552a, the Commission has reviewed its Privacy Act systems of records, and is republishing its notices of Privacy Act systems of records with necessary changes and additions. Addresses have been changed throughout to reflect the Commission's current location and organizational structure, and a new general routine use has been added, which applies to all of CPSC's systems of records, allowing disclosure to appropriate persons and entities for purposes of response and remedial efforts in the event that there has been a breach of data contained in the systems of records.

A. Revisions to the Systems of Records

The Commission is deleting five systems of records that do not meet the Privacy Act definition of “systems of records.” CPSC-1 Injury Investigation Files does not contain personally identifiable information. CPSC-5 Commissioners' Biographies contain information in the public domain. CPSC-6 Office of the Inspector General Files, CPSC-8 Integrated Field System, and CPSC-14 Corrective Actions and Sample Tracking System are systems where information is not retrieved by personally identifiable information.

The Consumer Product Safety Commission is announcing seven new systems of records as follows:

CPSC-27 Requests for Information. This system will be used to maintain records of consumers who contact the CPSC to request information and publications. Congress and the Office of Management and Budget have been notified of the new system of records.

CPSC-28 Emergency Contact Information System for the Consumer Product Safety Commission. This system will be used to maintain information about employees, former employees, and other individuals who have provided emergency contact information.

CPSC-29 Tracking System for Freedom of Information Act (FOIA) and Privacy Act (PA) Requests. This system will contain information from individuals who have requested CPSC records pursuant to the Freedom of Information and/or Privacy Acts.

CPSC-30 Transit Subsidy Benefit Program. This system will contain information about employees who are applicants and recipients of fare subsidies issued by the U.S. Department of Transportation.

CPSC-31 Contests, Challenges and Awards Program. This program will contain information from individuals who have entered contests or have been nominated for awards.

CPSC-32 Correspondence Tracking System. This system will contain information from the public and the business community who contact the Commission, or members of Congress, or the President or Vice President of the United States on matters related to various product safety issues.

CPSC-33 International Trade Data System Risk Assessment Methodology System. This system will be used to monitor and request examination for shipments that are potentially in violation of safety standards enforced by the Commission or potentially defective as part of a product group that has been designated by the Commission to have properties that are hazardous. Personally Identifiable Information (PII) could be used for monitoring and requesting exams, but only between government agencies (CPSC and U.S. Customs and Border Protection).

Other changes to existing systems of records include the following:

CPSC-4 Hotline Database. The system location has been updated to reflect the current contractor information.

CPSC-13 Personnel, Payroll, Financial Management, Retirement, Attendance and Leave. Changes have been made to include financial records, retirement, attendance and leave, and award information in the categories of records in the system. The title of this system of records was revised from “Personnel” to “Personnel, Payroll, Financial Management, Retirement, Attendance and Leave.” The primary uses of the records are for fiscal operations for payroll, attendance, leave, insurance, tax, retirement, business payments, budget, and cost accounting programs, and to prepare related reports to other federal agencies including the Department of the Treasury and the Office of Personnel Management.

CPSC-15 Employee Relations Files. The description of storage has been updated to include computer-based media storage.

B. Complete Systems of Records

A report of this system of records has been provided to Congress and the Office of Management and Budget. The complete system of records with the above changes follows:

Consumer Product Safety Commission Privacy Act Systems of Records

Table of Contents

CPSC-2 Advisory Committee Records

CPSC-3 Claims

CPSC-4 Hotline Database

CPSC-7 Enforcement and Investigation Files

CPSC-9 General Counsel Tracking System

CPSC-10 Procurement Files

CPSC-11 Physical Security Records

CPSC-12 Employee Outside Activity Notices

CPSC-13 Personnel, Payroll, Financial Management, Retirement, Attendance and Leave Records

CPSC-15 Employee Relations Files

CPSC-17 Commissioned Officers Personal Data File

CPSC-20 Personnel Security File

CPSC-23 Equal Employment Opportunity (EEO) Disability/Accommodation Files

CPSC-24 Respirator Program Medical Reports

CPSC-25 FOIA Express System of Records (FOIAXpress)

CPSC-26 Learning Management System

CPSC-27 Requests for Information

CPSC-28 Emergency Information Systems for the Consumer Product Safety Commission (Commission or CPSC)

CPSC-29 Request Tracking System for Freedom of Information Act (FOIA) and Privacy Act (PA) Requests

CPSC-30 Transit Subsidy Benefit Program

CPSC-31 Contests, Challenges, and Awards Program

CPSC-32 CPSC Correspondence Tracking System (CTS)

CPSC-33 International Trade Data System Risk Assessment Methodology System

SYSTEM NAME

CPSC-2, Advisory Committee Records

System location:

Directorate for Health Sciences, Consumer Product Safety Commission, 4330 East West Highway, Bethesda, MD 20814.

Categories of individuals covered by the system:

Individuals seeking, nominated for, or selected for membership on CPSC Advisory Committees.

Categories of records in the system:

Records of applicants contain an individual's name, address, personal history and qualifications, any correspondence with the individual, and any Commission memoranda relating to the selection of the individual. Records of members additionally contain information about the member's financial compensation and Commission documents relating to the individual's service as a member.

Authority for maintenance of the system:

15 U.S.C. 2077 and 15 U.S.C 1275.

Purpose(s):

These records are used to select candidates for filling vacancies on Advisory Committees and to administer the operation of the committees.

Routine uses of records maintained in the system, including categories of users and the purposes of such uses:

Disclosure may be made to a congressional office, from the record of an individual, in response to an inquiry from the congressional office, made at the request of that individual. Disclosure may be made to appropriate agencies, entities, and persons when: (1) CPSC suspects or has confirmed that the security or confidentiality of information in the system of records has been compromised; (2) CPSC has determined that as a result of the suspected or confirmed compromise, there is a risk of harm to the security or integrity of this system or other systems or programs (whether maintained by CPSC or another agency or entity) that rely upon the compromised information; and (3) the disclosure made to such agencies, entities, and persons is reasonably necessary to assist with the CPSC's efforts to respond to the suspected or confirmed compromise and prevent, minimize, or remedy such harm.

Policies and practices for storing, retrieving, accessing, retaining, and disposing of records in the system:

Storage:

Records are maintained in hard copy.

Retrievability:

Records are indexed alphabetically by name of committee and then by name of applicant or member.

Safeguards:

Records are maintained in file cabinets in a secured area.

Retention and disposal:

Files maintained by the Secretariat to the board, committee, or conference are maintained permanently. They are transferred to the Federal Records Center when they are five years old or upon permission of board, committee, or conference. Members' records are destroyed two years after termination of membership, or sooner, if no longer needed.

System manager(s) and address:

Health Sciences Project Manager, Directorate for Health Sciences, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

Information is provided by applicants, nominees for, and members of advisory committees, the National Academy of Science, and by Commission staff.

SYSTEM NAME

CPSC-3, Claims

System location:

Office of the General Counsel, Consumer Product Safety Commission, 4330 East West Highway, Bethesda, MD 20814.

Categories of individuals covered by the system:

CPSC employees sustaining personal property damage or loss incident to service; CPSC employees involved in situations where personal injury or property damage to others results from wrongful or negligent acts or omissions of employee acting within scope of employment; claimants sustaining injury or property damage due to activities of CPSC or its employees.

Categories of records in the system:

These records contain claims for money damages, accident and investigative reports, and correspondence and other documents concerning claims or potential claims.

Authority for maintenance of the system:

31 U.S.C. 3721; 28 U.S.C. 1346(b), 2672.

Purpose(s):

(a) For processing claims and litigation under the Federal Tort Claims Act or the Military Personnel and Civilian Employee's Claims Act; (b) for preparation of reports.

Routine uses of records maintained in the system, including categories of users and the purposes of such uses:

1. Disclosure may be made to a congressional office from the record of an individual in response to an inquiry from the congressional office made at the request of that individual.

2. Information from a record in this system of records may be disclosed to a person or entity having a legal interest in the claim.

3. Information may be disclosed to federal, state, or local law authorities, court authorities, administrative authorities, for use in connection with civil, criminal, administrative, and regulatory proceedings and actions relating to the claim.

4. Disclosure may be made to appropriate agencies, entities, and persons when: (1) CPSC suspects or has confirmed that the security or confidentiality of information in the system of records has been compromised; (2) CPSC has determined that as a result of the suspected or confirmed compromise, there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Storage:

Records are maintained in hard copy.

Retrievability:

Records are indexed alphabetically by name of individual claimant.

Safeguards:

Records are maintained in a file cabinet in a secured area. Access to such area is limited to persons whose official duties require such access.

Retention and disposal:

Records are retained permanently.

System manager(s) and address:

General Counsel, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

Information is provided by: (1) The individual to whom the record pertains; (2) CPSC and/or its employees; (3) affidavits, statements, or testimony of witnesses; (4) official documents relating to the claim; (5) correspondence from organizations or persons involved.

SYSTEM NAME

CPSC-4, Hotline Database

System location:

Systems Integration Incorporated, 8201 Corporate Drive, Suite 300, Landover, MD 20785.

Categories of individuals covered by the system:

Persons who contact the Consumer Product Safety Commission to report a consumer product associated injury, illness, death, incident, or perceived hazard associated with consumer products and other persons identified by the reporting persons as victims of consumer product associated incidents.

Categories of records in the system:

Information about accidents, injuries, illnesses, deaths, and suspected safety hazards associated with consumer products. The records contain free-form narratives, and a variety of fields dedicated to specific data about different types of products or incidents. Records contain personal information, such as the name, address, and telephone number of the person submitting the information, and in some cases, the name of the victim, if different.

Authority for maintenance of the system:

Section 5 of the Consumer Product Safety Act, 15 U.S.C. 2054.

Purpose(s):

To collect data on hazards, defects, injuries, illnesses, and deaths associated with consumer products; to respond to inquiries from the public; to record personal information to permit further interaction with persons submitting data or persons named by those who submit data; to further public safety by helping determine the cause of injuries and deaths associated with consumer products.

Routine uses of records maintained in the system, including categories of users and the purposes of such uses:

1. Records are disclosed to contractor personnel who operate the Consumer Product Safety Commission's Hotline and who enter data into the database.

2. Copies of records are mailed to callers for their verification of the information provided.

3. Copies of records may be sent to sources of consumer products identified in the records (e.g., manufacturers, distributors, or retailers) and may be distributed to others, but any personal identifying information is deleted before such disclosure, unless permission to disclose such personal identifying information has been explicitly granted, in writing, by the person in question.

4. Copies of records may be sent to other governmental agencies having apparent jurisdiction over the products or hazards disclosed in a record.

5. Disclosure may be made to appropriate agencies, entities, and persons when: (1) CPSC suspects or has confirmed that the security or confidentiality of information in the system of records has been compromised; (2) CPSC has determined that as a result of the suspected or confirmed compromise, there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Storage:

The contractor shall maintain records in a computer database management system on a local and wide-area network. Paper copies of individual computer records are made by the Hotline staff and are stored by month and by the name of the person who contacted the Hotline. Other paper copies are made available to Commission staff but are not stored by name or other individual identifier.

Retrievability:

Records are retrievable by a variety of fields, including the name of the person who submitted the information.

Safeguards:

Access to the computer records requires the use of two passwords: One to access the agency's computer network and another to access the database. Access is limited to those with a particular need to know the information—select Commission employees and the contractor employees who operate the Hotline.

Retention and disposal:

Records are maintained indefinitely.

System manager(s) and address:

Hotline Contract Officer, Office of Communications, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

Information in these records is initially supplied by persons who contact the Commission. The Commission may solicit additional or verifying information from those persons or from other persons who were identified as victims.

SYSTEM NAME

CPSC-7, Enforcement and Investigation Files

System location:

Office of Compliance and Field Operations, Office of Import Surveillance and Inspection, and Office of the General Counsel, Consumer Product Safety Commission, 4330 East West Highway, Bethesda, MD 20814.

Categories of individuals covered by the system:

Individuals who are the authors or recipients of, or mentioned in, documents received by, or generated by, the Consumer Product Safety Commission in preparation for, or the conduct of, potential or actual administrative or judicial enforcement actions, and individuals mentioned in such documents.

Categories of records in the system:

Memoranda, correspondence, test reports, injury reports, notes, and any other documents relating to the preparation for, or conduct of, potential or actual administrative or judicial enforcement actions. The materials may contain personal information as well as purely legal and technical information.

Authority for maintenance of the system:

15 U.S.C. 1194, 1195, 1196, 1264, 1265, 2069, 2070.

Purpose(s):

These files are used by Commission attorneys, compliance officers, and supporting technical staff investigating product hazards and enforcing the Commission's statutory authority.

Routine uses of records maintained in the system, including categories of users and the purposes of such uses:

1. These records may be cited and quoted in the course of enforcement negotiations, and in pleadings filed with an adjudicative body and served on opposing counsel.

2. They may be disclosed to the Department of Justice in connection with the conduct of litigation.

3. Disclosure may be made to appropriate agencies, entities, and persons when (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Storage:

Records are stored in file folders or computer files or both.

Retrievability:

Paper records may be filed by and retrievable by name of the document's author or addressee or by other indicia. Computer records are indexed by, and retrievable by the names and other indicia of authors and addressees, and may permit retrieval by names elsewhere in documents.

Safeguards:

Paper records are kept in secure areas. Computer records are protected by passwords available only to staff with a need to know.

Retention and disposal:

Records are kept indefinitely.

System manager(s) and address:

General Counsel; Director, Office of Compliance and Field Operations; and Director, Office of Import Surveillance and Inspection, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

These records come from organizations and individuals under investigation; from Commission attorneys, compliance officers, investigators, and supporting technical staff; and from other sources of information relevant to an investigation or adjudication.

Systems exempted from certain provisions of the act:

All portions of this system of records which fall within 5 U.S.C. 552a(k)(2) (investigatory materials compiled for law enforcement purposes) are exempt from 5 U.S.C. 552a(c)(3), (mandatory accounting of disclosures); 5 U.S.C. 552a(d), (access by individuals to records that pertain to them); 5 U.S.C. 552a(e)(1), (requirement to maintain only such information as is relevant and necessary to accomplish an authorized agency purpose); 5 U.S.C. 552a(e)(4)(G), (mandatory procedures to notify individuals of the existence of records pertaining to them); 5 U.S.C. 552a(e)(4)(H), (mandatory procedures to notify individuals how they can obtain access to and contest records pertaining to them); and 5 U.S.C. 552a(e)(4)(I), (mandatory disclosure of record source categories); as well as the Commission's regulations in 16 CFR Part 1014 which implement these statutory provisions.

SYSTEM NAME

CPSC-9, General Counsel Tracking System

System location:

Office of the General Counsel, Consumer Product Safety Commission, 4330 East West Highway, Bethesda, MD 20814.

Categories of individuals covered by the system:

Attorneys working in the Office of the General Counsel.

Categories of records in the system:

Descriptions and dates of assignments; comments; starting and completion dates; due dates; names of attorneys to whom assignments are given; names of divisions within the Office of the General Counsel.

Authority for maintenance of the system:

44 U.S.C. 3101; 15 U.S.C. 2051 et seq.; 16 CFR 1000.14.

Purpose(s):

To manage the workflow in the Office of the General Counsel; to assure timely completion of assignments; to respond to queries from other units of the Consumer Product Safety Commission; to assist in evaluating attorney performance.

Routine uses of records maintained in the system, including categories of users and the purposes of such uses:

Disclosure may be made to appropriate agencies, entities, and persons when (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Storage:

Records are maintained by a computer database management system. Hard copy printouts of selected groups of records are made from time to time.

Retrievability:

Records are retrievable by any field, including attorney name.

Safeguards:

Access to the records, and to fields within the records, is controlled by passwords. Records are accessible by all Office of the General Counsel staff, but not by others. Only supervisory staff may create records, assign or extend due dates, or enter completion dates.

Retention and disposal:

Records are kept indefinitely.

System manager(s) and address:

General Counsel, Consumer Product Safety Commission, 4330 East West Highway, Bethesda, MD 20814.

Notification procedure:

Freedom of Information/Privacy Act Office, Office of the Secretariat, Consumer Product Safety Commission, 4330 East West Highway, Bethesda, MD 20814.

Record access procedures:

Same as notification.

Contesting record procedures:

Same as notification.

Record source categories:

Information in these records is supplied by the attorneys themselves and by supervisors.

SYSTEM NAME

CPSC-10, Procurement System

System location:

Division of Procurement Services, Consumer Product Safety Commission, 4330 East West Highway, Bethesda, MD 20814.

Categories of individuals covered by the system:

Individuals, non-incorporated, who sell goods or services to the Consumer Product Safety Commission.

Categories of records in the system:

Contracts, proposals, purchase orders, correspondence and other documents related to specific procurements from individuals functioning as business entities. These records may include social security number (when used as business tax ID), home address, and home telephone number when these contact points are used for business purposes. Documents related to procurements from corporations, partnerships, or other such business entities are not included in this system of records.

Authority for maintenance of the system:

15 U.S.C. 2076.

Purpose(s):

These records support all facets of the Commission's procurement activities.

Routine uses of records maintained in the system, including categories of users and the purposes of such uses:

1. To the U.S. Department of Justice when related to litigation or anticipated litigation.

2. To the appropriate Federal, State, or local investigation or enforcement agency when there is an indication of a violation or potential violation of statute or regulation in connection with procurement.

3. To a Congressional office in response to an inquiry made at the request of the individual who is the subject of the record.

4. To the U.S. Government Accountability Office in the event of a procurement protest involving the individual.

5. To the Office of Financial Management in an effort to properly process payment of invoices.

6. To the Office of the Secretariat, Freedom of Information Officer, to properly process incoming FOIA requests in accordance with the Freedom of Information Act.

7. Disclosure may be made to appropriate agencies, entities, and persons when (a) the CPSC suspects or has confirmed that the security or confidentiality of information in the system of records has been compromised; (2) CPSC has determined that as a result of suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Disclosure to consumer reporting agencies:

Disclosures pursuant to 5 U.S.C. 552a(b)(12). Pursuant to 5 U.S.C. 552a(b)(12), disclosures may be made to a consumer reporting agency as defined in the Fair Credit Reporting Act (15 U.S.C. 1681a(f)) or the Federal Claims Collection Act of 1966 (31 U.S.C. 3701(a)(3)).

Policies and practices for storing, retrieving, accessing, retaining, and disposing of records in the system:

Storage:

Records are stored in file folders. Extracts of these records, including tax ID number, address, and phone number, are also kept in a computer database.

Retrievability:

Records are retrieved from the computer database by business name used by an individual or contract number. Paper records are retrieved by contract number, which may be retrieved by first searching for the contractor name in the computer database.

Safeguards:

Paper records are stored in locked cabinets in a secure area. Computer records are accessible only through the use of login and password, which are issued to those with a need to know.

Retention and disposal:

Computer records are kept indefinitely. Paper records are destroyed 6 years and 3 months after final payment.

System manager(s) and address:

Director, Division of Procurement Services, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

Personal information in these records is normally obtained from the person to whom the records pertain.

SYSTEM NAME

CPSC-11, Physical Security Records

System location:

Office of Facilities Services, Consumer Product Safety Commission, 4330 East West Highway, Bethesda, MD 20814.

Categories of individuals covered by the system:

Employees, contractors, and others who have received uniquely coded tokens (key cards, key fobs, etc.) to gain access to various parts of Commission facilities.

Categories of records in the system:

Records which show the time a token has been used; the identity of the token and, therefore, of the person to whom it is assigned; the location at which it has been used; and the access privileges of the person to whom it is assigned.

Authority for maintenance of the system:

5 U.S.C. 301.

Purpose(s):

These records may be used to investigate breaches of security, theft, vandalism, other property losses, criminal offenses, and employee misconduct.

Routine uses of records maintained in the system, including categories of users and the purposes of such uses:

These records may be disclosed:

1. To a law enforcement agency when the Commission becomes aware of an indication of a violation of civil or criminal law or regulation to which these records may be pertinent.

2. To the Department of Justice, a court or other tribunal (including an adjudicative or administrative body), or other third-party before such tribunal when the Commission determines that the use of these records by the entity is relevant and necessary to litigation involving the Commission or a Commission employee or former employee.

3. To an employee, an employee's attorney or other representative designated by the employee, when the Commission questions the employee's conduct based at least in part on information from this system of records.

4. Disclosure may be made to appropriate agencies, entities, and persons when (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Storage:

These records are stored in a central computer managed by a security services contractor. Printouts are stored in locked file cabinets.

Retrievability:

These records can be retrieved by time period, location(s), and the unique identifier of a person's token, or a combination of these.

Safeguards:

These records are kept in a secure computer facility and can be retrieved only by the Commission's Physical Security Manager or designee upon request of a senior Commission official or a law enforcement officer. Printouts are stored in locked file cabinets.

Retention and disposal:

These records are kept one year from the date of creation.

System manager(s) and address:

Physical Security Manager, Office of Facilities Services, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

These records are automatically generated when a token is passed through or across an electronic reading device.

SYSTEM NAME

CPSC-12, Employee Outside Activity Notices

System location:

Office of the General Counsel, Consumer Product Safety Commission, 4330 East West Highway, Bethesda, MD 20814.

Categories of individuals covered by the system:

Commission employees engaged in outside employment activities or outside activities such as consulting, practicing law, or teaching.

Categories of records in the system:

This system of records contains information concerning the employee's position, nature of outside activity, relation of official duties to activity, and method of compensation for outside activity.

Authority for maintenance of the system:

Executive Order 12674; 5 CFR part 2635, subpart H; and 5 CFR part 8101.

Purpose(s):

Information in these records is used by the Ethics Counselor in making a determination as to whether an employee's outside activity constitutes a real or apparent conflict of interest with the employee's government duties and responsibilities.

Routine uses of records maintained in the system, including categories of users and the purposes of such uses:

Disclosure may be made to a congressional office from the record of an individual in response to an inquiry from the congressional office made at the request of that individual. Disclosure may be made to appropriate agencies, entities, and persons when (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Storage:

Records are maintained on hard copy.

Retrievability:

Records are filed by employee name.

Safeguards:

Records are maintained in locked file cabinets.

Retention and disposal:

Records such as determinations regarding attendance at widely-attended gatherings which appropriate agency ethics officials determine are related to the routine, non-precedential application of settled legal standards to common factual situations and are not interpretations of the conflict of interest statutes, 18 U.S.C. 202-209, and other ethics statutes the violation of which may result in criminal penalties or civil fines are destroyed when 3 years old or when superseded or obsolete, whichever is later. All other records are destroyed when 6 years old or when superseded or obsolete, whichever is later.

System manager(s) and address:

Designated Agency Ethics Official (General Counsel), Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

The information in these records is furnished by the employees to whom it pertains.

SYSTEM NAME

CPSC-13, Personnel, Payroll, Financial Management, Retirement, Attendance and Leave Records:

Note: The personnel system complements OPM/GOV-1, the Government wide system for general personnel records maintained by the Office of Personnel Management. This notice incorporates by reference but does not repeat all of the information contained in OPM/GOVT-1.

System location:

Consumer Product Safety Commission (CPSC), Director, Office of Human Resources Management, Director, Division of Financial Services, and

The office to which the employee is assigned, and all offices which prepare and provide input documents and information for data processing and administrative actions. Automated personnel records are also maintained in the Federal Personnel Payroll System (FPPS) managed by the National Business Center in Denver, Colorado.

Automated financial management data for the Commission's financial management system is maintained in Delphi, an Oracle based financial management system hosted and supported by Enterprise Service Center, ESC, a shared provider located in Oklahoma City, Oklahoma.

4330 East West Highway, Bethesda, MD 20814.

Categories of individuals covered by the system:

Current and former employees of CPSC (employees), volunteers within CPSC, and contractors performing for CPSC.

Categories of records in the system:

Records consist of payroll, financial records, retirement, attendance and leave records, personnel security records, safety records, contractor payment records, and personnel records including award information. In addition, the system contains data necessary to update the Central Personnel Data File at the Office of Personnel Management, to process personnel actions, to perform detailed accounting distributions, to automatically provide for such tasks as mailing checks and bonds, and to prepare and mail tax returns and reports. Records include, but are not limited to the following categories of records:

1. Employee identification and status data such as name, social security number, date of birth, sex, work schedule, type of appointment, education, veteran's preference, military service.

2. Relevant data such as service computation date for leave, date probationary period began, and date of performance rating.

3. Position and pay data such as pay plan, occupational series, grade, step, salary, merit pay, organization location, length of service.

4. Employment data such as position description, special employment program, and target occupational series and grade.

5. Payroll data such as time; attendance; leave; federal, state, and local tax; allotments; savings bonds; and other pay allowances and deductions.

6. Personnel security data such as security clearance level and basis with dates.

7. Financial data pertaining to travel, financial obligation documents, support documentation to payment schedules and collection transactions.

8. Information on debts and debtors owed to the government as a result of overpayment, refund owed, or a debt referred for collection to another agency. This includes employees and former employees who have a liability to the Commission.

9. Information, including address and social security number, on individual vendors to the Commission. This includes employees who receive reimbursements for expenses incurred. Supporting documentation on action made to contractors are part of the payment schedule maintained in hard copy form and filed onsite at ESC for a minimum of one year from the time the action is taken. ESC provides full accounting services for CPSC.

10. Emergency contact information including name, address, phone number.

Authority for maintenance of the system:

5 U.S.C. Part III, is the authority for the overall system. Specific authority for use of Social Security numbers is contained in Executive Order 9397, 26 CFR 31.6011(b)(2), and 26 CFR 31.6109-1. The authority for the personnel security clearance and statistical records is contained in Executive Order 19450, April 27, 1953, as amended; Executive Order 12065, June 28, 1978; 31 U.S.C. 686; and 40 U.S.C. 318(a) through (d). The legal authority for the FPPS and Quicktime applications is defined in the Office of Management and Budget Circular A-127.

Purpose(s):

The primary uses of the records are for fiscal operations for payroll, attendance, leave, insurance, tax, retirement, business payments, budget, and cost accounting programs, and to prepare related reports to other federal agencies including the Department of the Treasury and the Office of Personnel Management.

This system supports the day to day operating requirements associated with personnel and finance oriented program areas from hiring employees and paying employees and vendors to calculating estimated retirement annuities. Payroll-related outputs include a comprehensive payroll; detailed accounting distribution of costs; leave data summary reports; an employee's statement of earnings, deductions and leave every payday for each employee; State, city, and local unemployment compensation reports; federal, state, and local tax reports; W-2 wage and tax statements; and reports of withholdings and contributions. Personnel-related reports include automated personnel actions as well as organization rosters, retention registers, retirement calculations, reports of the federal civilian employment, employee master record printouts, length of service lists, and listings of within-grade increases. These records are used to provide data for agency reports and internal workforce statistics and information regarding such matters as average grade, veteran and handicap employment, retention-standing, within-grade due dates, occupational groupings, geographic employment and others related to the operation of the personnel office.

Routine uses of records maintained in the system, including categories of users and the purposes of such uses:

Routine uses of records maintained in the system include:

1. Providing data to the Office of Personnel Management's Central Personnel Data File (CPDF).

2. Providing a copy of an employee's Department of the Treasury Form W-2, Wage and Tax Statement, to the State, city, or other local jurisdiction which is authorized to tax the employee's compensation. The record will be provided in accordance with a withholding agreement between the State, city, or other local jurisdiction and the Department of the Treasury pursuant to 5 U.S.C. 5516, 5517, and 5520.

3. Pursuant to a withholding agreement between a city and the Department of the Treasury (5 U.S.C. 5520), copies of executed tax withholding certificates shall be furnished to the city in response to a written request from an appropriate city official to the Assistant Administrator for Plans, Programs, and Financial Management, General Services Administration (B), Washington, DC 20405.

4. To the extent necessary, records are available to Commission and outside government agencies to monitor and document grievance proceedings, and adverse actions; and to provide reference to other agencies and persons for employees seeking employment elsewhere.

5. Some records or data elements in this system of records may also be in the Office of Personnel Management's government-wide system OPM/GOVT-1 and are subject to that system's routine uses.

6. To disclose, in response to a request for discovery or for appearance of a witness, information that is relevant to the subject matter involved in a pending judicial or administrative proceeding.

7. The names, social security numbers, home addresses, dates of birth, quarterly earnings, employer identifying information, and State of hire of employees may be disclosed to the Office of Child Support Enforcement, Administration for Children and Families, Department of Health and Human Services for the purpose of locating individuals to establish paternity, establishing and modifying orders of child support, identifying sources of income, and for other child support enforcement actions as required by the Personal Responsibility and Work Opportunity Reconciliation Act (Welfare Reform law, Pub. L. 104-193).

8. To the U.S. Department of Justice when related to litigation or anticipated litigation.

9. To the General Accounting Office in the event of a procurement protest involving an individual.

10. Disclosure may be made to appropriate agencies, entities, and persons when (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Disclosure to consumer reporting agencies:

Disclosures pursuant to 5 U.S.C. 552a(b)(12). Pursuant to 5 U.S.C. 552a(b)(12), disclosures may be made to a consumer reporting agency as defined in the Fair Credit Reporting Act (15 U.S.C. 1681a(f)) or the Federal Claims Collection Act of 1966 (31 U.S.C. 3701(a)(3)).

Policies and practices for storing, retrieving, accessing, retaining, and disposing of records in the system:

Storage:

Records are stored on paper in file folders and on computer based media.

Retrievability:

Paper records are filed by document number. Computer records are retrievable by any data element or combination of data elements.

Safeguards:

Paper records are stored in lockable metal cabinets or in secured rooms. Password system protects access to the computerized records. Information is released only to authorized officials on a need-to know basis.

Retention and disposal:

Accountable officers' records are sent to the Federal Records Center one year after the end of the fiscal year to which they pertain and kept for 6 years and 3 months. Accountable officers' records include all records concerned with accounting for and availability of, and status of public funds, General Records Schedule 6. Payroll-related records follow General Records Schedule 2 and Personnel records follow General Records Schedule 1.

System manager(s) and address:

For payroll and financial-related records:

Director, Division of Financial Services, Consumer Product Safety Commission, 4330 East West Highway, Bethesda, MD 20814.

For personnel-related records:

Director, Office of Human Resources Management, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

The individuals themselves, other employees, supervisors, other agencies' management officials, non-federal sources such as private firms, and data from the systems of records OPM/GOVT-1 and EEOC/GOVT-1.

SYSTEM NAME

CPSC-15, Employee Relations Files

System location:

Office of Human Resources Management, Consumer Product Safety Commission, 4430 East West Highway, Bethesda, MD 20814.

Categories of individuals covered by the system:

Current and former employees of the Consumer Product Safety Commission.

Categories of records in the system:

This system of records contains information or documents relating to: (1) Disciplinary actions, complaints, grievances, potential adverse actions, and proposals, decisions, or determinations made by management relative to the foregoing; The records consist of the notices to the individuals, records of resolutions of complaints, materials placed into the record to support the decision or determination, affidavits or statements and (2) retirement records.

Authority for maintenance of the system:

5 U.S.C. 1302, 3301, 4308, 5115, 5338, 7151, 7301, 7701, 8347; Executive Orders 9830, 10987, 11222, 11478.

Purpose(s):

These records and information in the records may be used as a data source for management information for production of summary descriptive statistics and analytical studies in support of the function for which the records are collected and maintained, or for related personnel management functions or manpower studies; may also be utilized to respond to general requests for statistical information (without personal identification of individuals) under the Freedom of Information Act or to locate specific individuals for personnel research or other personnel management functions.

Routine uses of records maintained in the system, including categories of users and the purposes of such uses:

1. To respond to a request from a Member of Congress regarding the status of an appeal, complaint or grievance.

2. To provide information to the public on the decision of an appeal, complaint, or grievance required by the Freedom of Information Act.

3. To respond to a court subpoena and/or refer to a district court in connection with a civil suit.

4. To adjudicate or resolve an appeal, complaint, or grievance.

5. To refer, where there is an indication of a violation or potential violation of law, whether civil, criminal, or regulatory in nature, to the appropriate agency, whether federal, state, or local, charged with the responsibility of investigating or prosecuting such violation or charged with enforcing or implementing the statute, rule, regulation or order issued pursuant thereto.

6. To request information from a federal, state or local agency maintaining civil, criminal, or other relevant enforcement or other pertinent information, such as licenses, if necessary to obtain relevant information to an agency decision concerning the hiring or retention of an employee, the issuance of a security clearance, or the issuance of a license, grant, or other benefit.

7. To provide information or disclose to a federal agency, in response to its request, in connection with the hiring or retention of an employee, or issuance of a license, grant or other benefit by the requesting agency to the extent that the information is relevant and necessary to the requesting agency's decision of that matter.

8. Disclosure may be made to a congressional office from the record of an individual in response to an inquiry from the congressional office made at the request of that individual.

9. To disclose, in response to a request for discovery or for appearance of a witness, information that is relevant to the subject matter involved in a pending judicial or administrative proceeding.

10. Disclosure may be made to appropriate agencies, entities, and persons when (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Storage:

These records are maintained in file folders and computer based media.

Retrievability:

These records are indexed by the names of the individuals on whom they are maintained.

Safeguards:

Records are located in a combination lock metal file cabinet and access is limited to those persons whose official duties require such access.

Retention and disposal:

(1) For documents relating to disciplinary actions, complaints, grievances, and potential adverse actions, destroy no sooner than 7 years after case is closed. (2) For retirement records, transfer the records to the Office of Personnel Management after the employee retires, and retains copies for two years.

System manager(s) and address:

Deputy Director, Office of Human Resources Management, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

Information in these records is furnished by: (1) Individual to whom the record pertains; (2) Agency officials; (3) Affidavits or statements from employee; (4) Testimonies of witnesses; (5) Official documents relating to appeal, grievance, or complaints; (6) Correspondence from specific organizations or persons.

SYSTEM NAME

CPSC-17, Commissioned Officers' Personal Data File

System location:

A complete record on every commissioned officer is maintained in the Office of Compliance and Field Operations to which the commissioned officer is assigned.

Categories of individuals covered by the system:

State employees commissioned as officers of CPSC.

Categories of records in the system:

The database system contains documents related to the commissioning of the individual and personal data including name, social security number, date of birth, educational background, employment history, medical information, home address and phone number.

Authority for maintenance of the system:

Section 29(a)(2), Consumer Product Safety Act (15 U.S.C. 2078(a)(2)); E.O. 10450, sections 8(c), 9(a), 9(b); E.O. 10561.

Purpose(s):

1. Used by agency officials for purposes of review in connection with issuance, distribution, use and return of official Commission credentials to commissioned state and local officials.

2. To provide statistical reports to Congress, agencies and the public on characteristics of the Commissioned officer program.

3. As a data source for management information for production of summary descriptive statistics and analytical studies in support of the function for which the records are collected and maintained, or for related personnel management functions or manpower studies; may also be utilized to respond to general requests for statistical information without personal identification of individuals under the Freedom of Information Act or to locate specific individuals for personnel research or other personal management functions.

Routine uses of records maintained in the system, including categories of users and the purposes of such uses:

1. To provide information to a federal or state agency, in response to its request, in connection with the hiring or retention of an employee, or other benefit by the requesting agency.

2. To request information from a federal, state, or local agency maintaining civil, criminal, or other relevant enforcement or other pertinent information if necessary to obtain information relevant to an agency decision concerning the commissioning or recommissioning of an individual.

3. Disclosure to a congressional office in response to an inquiry from the congressional office made at the request of the individual.

4. Disclosure may be made to appropriate agencies, entities, and persons when (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Disclosure to consumer reporting agencies:

Disclosures pursuant to 5 U.S.C. 552a(b)(12). Pursuant to 5 U.S.C. 552a(b)(12), disclosures may be made to a consumer reporting agency as defined in the Fair Credit Reporting Act (15 U.S.C. 1681a(f)) or the Federal Claims Collection Act of 1966 (31 U.S.C. 3701(a)(3)).

Policies and practices for storing, retrieving, accessing, retaining, and disposing of records in the system:

Storage:

Records are maintained in a centralized database.

Retrievability:

Records are indexed by state and by name.

Safeguards:

Records are located in lockable metal file cabinets or metal file cabinets in secured rooms with access limited to those whose official duties require access.

Retention and disposal:

The records are maintained and disposed of in accordance with Commission records management policies and procedures.

System manager(s) and address:

Director, Office of Compliance and Field Operations, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

Information in these records comes either from the individual to whom it pertains or from agency officials, CPSC supervisors, or state officials.

SYSTEM NAME

CPSC-20, Personnel Security File

System location:

Office of Human Resources Management, Consumer Product Safety Commission, 4330 East West Highway, Bethesda, MD 20814.

Categories of individuals covered by the system:

Employees of the Consumer Product Safety Commission and applicants for employment with the Consumer Product Safety Commission.

Categories of records in the system:

Results of name checks, inquiries, and investigations furnished by the Office of Personnel Management or other approved government investigative agency, to determine suitability for employment with, or continued employment by, the Consumer Product Safety Commission. Information in records may include date and place of birth, citizenship, marital status, military status, and social security status. These records contain investigative information regarding an individual's character, conduct, and behavior in the community where he or she lives or lived; arrests and convictions for any violations of law; information from present and former supervisors, co-workers, associates, educators; credit and National Agency checks; and other information developed from the above.

Authority for maintenance of the system:

Executive Order 10450; 5 U.S.C. 301.

Purpose(s):

The records in this system of records are used by the Director, Office of Human Resources and the Personnel Security Officer to determine whether the employment of an applicant, or retention of a current employee, is in the interest of the Commission and to determine whether to grant an employee or contractor access to non-public information or restricted areas.

Routine uses of records maintained in the system, including categories of users and the purposes of such uses:

1. To request from a federal, state, or local agency maintaining civil, criminal, or other relevant enforcement information, data relevant to a Commission decision concerning the hiring or retention of an employee, the issuance of a security clearance to an employee, or other administrative action concerning an employee.

2. To the Office of Personnel Management in their role as an investigating agency, and in their role as the agency responsible for conducting a continuing assessment of agency compliance with federal personnel security and suitability program requirements.

3. To the Office of Personnel Management for use in other personnel matters.

4. Disclosure may be made to appropriate agencies, entities, and persons when (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Storage:

Records are maintained in file folders and on computer based media.

Retrievability:

Records are indexed alphabetically by name.

Safeguards:

Records are maintained in a safe-type combination lock file cabinet in the custody of the Office of Human Resources Management. Access is limited to the Personnel Security Officer, the Deputy Director, Office of Human Resources Management.

Retention and disposal:

Records are maintained at the Consumer Product Safety Commission for at least two years from the date of any final decision placed in the record.

System manager(s) and address:

Deputy Director, Office of Human Resources Management, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification. The Freedom of Information/Privacy Act Officer will forward the request to the agency which conducted the investigation, which will make the final determination.

Contesting record procedures:

Same as access.

Record source categories:

Office of Personnel Management reports and reports from other federal agencies.

SYSTEM NAME

CPSC-23, Equal Employment Opportunity (EEO) Disability/Accommodation Files

System location:

Office of Equal Employment Opportunity and Minority Enterprise, Consumer Product Safety Commission, 4330 East West Highway, Bethesda, MD 20814.

Categories of individuals covered by the system:

Individuals who initiate reasonable accommodation requests pursuant to Rehabilitation Act and Americans with Disabilities Act.

Categories of records in the system:

Correspondence and email requests for information submitted to the Commission regarding the request for reasonable accommodation, e.g., employee name, address, city, state, telephone number and other pertinent information related to their disability.

Authority for maintenance of the system:

Rehabilitation Act, 29 U.S.C. 794, and Americans with Disabilities Act, 42 U.S.C. 12101.

Purpose(s):

These records are used by Commission staff responding to a request for reasonable accommodation so that requests can be tracked, evaluated and responded to accurately and in a timely manner.

Routine uses of records maintained in the system, including categories of users and the purposes of such uses:

1. For the official use of those with a need to know. This may include the deciding official, the appellate authority, the Personnel Director, the Disability Program Manager, and the Office of the General Counsel.

2. Disclosure may be made to a congressional office from the record of an individual in response to an inquiry from the congressional office made at the request of that individual.

3. To disclose, in response to a request for discovery or for appearance of a witness, information that is relevant to the subject matter involved in a pending judicial or administrative proceeding.

4. Disclosure may be made to appropriate agencies, entities, and persons when (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Storage:

Records will be maintained in hard copy in file folders or on computer disk/drive.

Retrievability:

Records will be indexed and retrieved by name.

Safeguards:

Records are maintained in locked files in a secured area and access is limited to those persons whose official duties require such access.

Retention and disposal:

Records are maintained for three years from date of final action and then destroyed.

System manager(s) and address:

Director, Office of Equal Employment Opportunity and Minority Enterprise, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

Information in these records is furnished by: (1) Individual to whom the record pertains; (2) Agency officials; (3) Affidavits or statements from employee; (4) Testimonies of witnesses; (5) Official documents relating to appeal, grievance, or complaints; (6) Correspondence from specific organizations or persons.

SYSTEM NAME

CPSC-24, Respirator Program Medical Reports

System location:

Office of Facilities Services, Consumer Product Safety Commission, 4330 East West Highway, Bethesda, MD 20814.

Categories of individuals covered by the system:

CPSC employees whose jobs may require them to wear respirators.

Categories of records in the system:

Medical reports indicating (a) approval or disapproval for an employee's use of respirators; (b) allowable level of exertion and any medical conditions relevant to the use of respirators; and (c) recommended interval until next medical evaluation.

Authority for maintenance of the system:

29 CFR 1910.134(b)(10).

Purpose(s):

These records are used to keep track of employees who are authorized to work in hazardous environments requiring the use of respirators and to schedule repeat medical examinations for those employees.

Routine uses of records maintained in the system, including categories of users and the purposes of such uses:

Disclosure may be made to appropriate agencies, entities, and persons when (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Storage:

Records are maintained in hard copy.

Retrievability:

Records are retrieved by name of employee.

Safeguards:

Records are maintained in a combination lock safe-type filing cabinet.

Retention and disposal:

Records are maintained until termination of employment with CPSC.

System manager(s) and address:

Director, Office of Facilities Services, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

Information is provided by the medical facility performing the medical evaluations. The evaluation is based in part on information provided by the employee to the medical facility.

SYSTEM NAME

CPSC-25, FOIA Express System of Records (FOIAXpress)

System location:

Office of the Secretariat, Consumer Product Safety Commission, 4330 East West Highway, Bethesda, MD 20814.

Categories of individuals covered by the system:

Individuals who request information from the Consumer Product Safety Commission pursuant to the Freedom of Information Act or Privacy Act.

Categories of records in the system:

Correspondence and email requests for information submitted to the Commission which may contain personal information about individuals, e.g., name, address, city, state, telephone number, fax and email address and other pertinent information related to processing and responding to their FOIA and/or Privacy Act request.

Authority for maintenance of the system:

5 U.S.C. 552 and 5 U.S.C. 552a.

Purpose(s):

These records are used by Commission staff responding to the request for information so that requests can be tracked and responded to accurately and in a timely manner.

Routine uses of records maintained in the system, including categories of users and the purposes of such uses:

1. These records are used to record the requesting individual's address so a response can be forwarded.

2. These records are used to record the specific information that the individual is seeking so that the information we provide is responsive to the request.

3. Staff will search the records to determine which requests have been filled and which are still pending.

4. CPSC will use these records to prepare an annual report of FOIA activities at the end of each fiscal year and submit the report to the Attorney General, through the Department of Justice, Office of Information and Privacy.

5. Disclosure may be made to appropriate agencies, entities, and persons when (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Storage:

Records will be entered into a database tracking system and given a request number. All information will be stored electronically and paper requests will eventually be destroyed.

Retrievability:

Records will mainly be retrieved using the FOIA request number, however, records may also be retrieved by searching on a requester's first and last names, category (consumer, student, attorney, etc.), job title, address, city, state, zip code, a company name or entry date and closed date.

Safeguards:

Computer records are protected by passwords available only to staff with a need to know.

Retention and disposal:

Records will be stored electronically for 2 to 6 years, contingent upon the National Archives Records Administration (NARA's General Records Schedule 14).

System manager(s) and address:

Alberta E. Mills, FOIA Officer, Office of the Secretariat, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

Personal information in these records is obtained from the individual requesting the information under FOIA or Privacy Act.

SYSTEM NAME

CPSC-26, Learning Management System

System location:

Office of Information Technology, Consumer Product Safety Commission, 4330 East West Highway, Bethesda, MD 20814.

Categories of individuals covered by the system:

CPSC employees.

Categories of records in the system:

Information concerning training courses that an employee takes during the year. The employee enters a training request by entering their social security number, date of birth, course title, vendor name, course location and other OPM specific data fields that pertain to the collection of training records.

Authority for maintenance of the system:

5 U.S.C. Chapter 41—Training; 5 CFR part 410.

Purpose(s):

These records are used by Commission to respond to Office of Personnel Management's requirements that all federal agencies submit training reports on a monthly basis. The reports must include employee social security number and date of birth.

Routine uses of records maintained in the system, including categories of users and the purposes of such uses:

1. These records are used by CPSC to record training information for all employees.

2. CPSC will use these records to submit monthly training reports to OPM.

3. Disclosure may be made to appropriate agencies, entities, and persons when (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Storage:

Records will be entered into a database tracking system and stored electronically.

Retrievability:

Records will mainly be retrieved using the employee's last name.

Safeguards:

Computer records are protected by passwords available only to staff with a need to know.

Retention and disposal:

Training records will be stored electronically for five years.

System manager(s) and address:

Director, Office of Human Resources, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

Personal information in these records is obtained from the individual requesting training.

SYSTEM NAME

CPSC-27, Requests for Information

System location:

Office of Communications, Consumer Product Safety Commission, 4330 East West Highway, Bethesda, MD 20814,

Hotline managed by Systems Integration Incorporated, 8201 Corporate Drive, Suite 300, Landover, MD 20785.

Categories of individuals covered by the system:

Persons who contact the Consumer Product Safety Commission to request information and publications.

Categories of records in the system:

Records contain personal information such as the name, address, email, and telephone number of the person submitting the request for information. Requests can be received through CPSC's toll free hotline, internet Web site, and through correspondence.

Authority for maintenance of the system:

Section 5 of the Consumer Product Safety Act, 15 U.S.C. 2054.

Purpose(s):

To record personal information so that information and publications may be mailed or otherwise provided.

Routine uses of records maintained in the system, including categories of users and the purposes of such uses:

1. Records are disclosed to contractor personnel who operate the Consumer Product Safety Commission's Hotline and who enter data into the database.

2. Records may be used by CPSC staff and contract staff to respond to the request for information.

3. Disclosure may be made to appropriate agencies, entities, and persons when (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Storage:

The contractor maintains Hotline records in a computer database management system on a local and wide area network.

Retrievability:

Records are retrievable by a variety of fields, including the name of the person who submitted the request for information.

Safeguards:

Access to the Hotline computer records requires the use of two passwords: One to access the agency's computer network and another to access the database. Access is limited to those with a particular need to know the information — select Commission employees and the contractor employees who operate the Hotline.

Retention and disposal:

Computer records are maintained indefinitely. Paper records are kept for 10 years and then transferred to a Federal Records Center.

System manager(s) and address:

Hotline Contract Officer, Office of Communications, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

Information in these records is initially supplied by persons who contact the Commission.

SYSTEM NAME

CPSC 28, Emergency Contact Information Systems for the Consumer Product Safety Commission

System location:

U.S. Consumer Product Safety Commission, 4330 East West Highway, Bethesda, MD 20814, and field offices throughout the United States.

Categories of individuals covered by the system:

Employees, former employees, and other individuals having business with the Commission who have provided emergency contact information.

Categories of records in the system:

Information in the records may include home phone numbers, cellular phone numbers, pager numbers, numbers where individuals can be reached while on travel or otherwise away from the office, home addresses, electronic mail addresses, driver's license information, and phone numbers of family members or other contacts, and other contact information provided by individuals covered by this system of records to the Commission.

Authority for maintenance of the system:

5 U.S.C. 301.

Purpose of the System:

To maintain contact information on employees and other individuals in case of emergencies involving an employee or the Commission, or when necessary for official purposes.

Routine uses of records maintained in the system, including categories of users and the purposes of such uses:

In addition to the conditions of disclosure under 5 U.S.C. 552a(b), Commission staff may provide these records to any Federal, State, local or other public authorities for the purpose of coordinating and reviewing agency continuity of operations plans or emergency contingency plans developed for responding to security threats, weather related emergencies or other critical situations.

Policies and practices for storing, retrieving, accessing, retaining, and disposing of records in the system:

Storage:

Records are stored in electronic form, on paper, plastic laminated cards, lists on shared computer drives, or lists maintained on telephones or other devices issued by the Commission.

Retrievability:

Information is retrieved by name of the individual.

Safeguards:

Records are safeguarded by restricted computer passwords, Secure Zip software, and/or locked in file cabinets. Access to the records is restricted to those who require the records in the performance of official duties related to the purposes for which the system is maintained.

Retention and disposal:

Periodic purging and disposal of those records concerning individuals no longer members, employees or contractors of the Commission. Otherwise, records are retained and disposed of in accordance with the appropriate National Archives and Records Administration General Records Schedules.

System manager(s) and address:

The system managers for emergency notification files are the Directors for the individual offices maintaining the records 4330 East West Highway, Bethesda, Maryland 20814.

Notification procedure:

Privacy Act Officer, Office of the Secretariat, U.S. Consumer Product Safety Commission, 4330 East West Highway, Bethesda, MD 20814.

Record access procedures:

Request for access must be in writing and should be addressed to the Privacy Act Officer, Office of the Secretariat, U.S. Consumer Product Safety Commission, 4330 East West Highway, Bethesda, MD 20814.

Contesting record procedures:

Individuals desiring to contest or amend information maintained in the system should direct their request to the Privacy Act Officer listed above, stating clearly and concisely what information is being contested, the reasons for contesting it, and the proposed amendment to the information sought.

Record source categories:

Information in emergency notification files is obtained from CPSC employees and contractors whose names appear on emergency contact lists and forms.

Exemptions Claimed for the System:

None.

SYSTEM NAME

CPSC-29, Request Tracking System for Freedom of Information Act (FOIA) and Privacy Act (PA) requests

System location:

Office of the Secretariat, Freedom of Information Office and National Injury Information Clearinghouse Office, Consumer Product Safety Commission, 4330 East West Highway, Bethesda, Maryland 20814.

Categories of individuals covered by the system:

Individuals who have requested CSPC records pursuant to the Freedom of Information and/or Privacy Acts.

Categories of records in the system:

Records describe incoming FOIA requests, request identification number, contact/affiliation information for individuals requesting records, action taken, description of records released or denied, fees charged/waived, and final outcome of request.

Authority for maintenance of the system:

5 U.S.C. 552 and 15, U.S.C. 2055.

Purpose(s):

The system is maintained for the purpose of processing records requests under FOIA and to prepare related reports.

Routine uses of records maintained in the system, including categories of users and the purposes of such uses:

In addition to those disclosures generally permitted under FOIA and the PA, the records maintained in the system may also be used for the following:

1. Used by the CPSC Clearinghouse staff to assure that each request is processed and receives an appropriate response and to compile data for required annual reports on activities under the FOIA.

2. As a data source for management information and analytical studies in support of the function for which the records are collected and maintained or for related personnel management functions or manpower studies.

Policies and Practices for Storing, Retrieving, Accessing, Retaining and Disposing of Records in the System:

Storage:

Paper records in file folders. An index is maintained in a computer database.

Retrievability:

By the request identification number, name of requester, type of requester, product code.

Safeguards:

Records are maintained in a secure, access-controlled file room and lockable file cabinets.

Retention and disposal:

Records are maintained in accordance with CPSC Records Control Schedules as applicable to the General Records Schedule, published by the National Archives and Records Administration.

System manager(s) and address:

Director and Lead Technical Information Specialist, Office of the National Injury Information Clearinghouse, and Freedom of Information Officer, Office of the Secretariat Consumer Product Safety Commission, 4330 East West Highway, Bethesda, Maryland, 20814.

Notification Process:

Any individual who wants to know whether this system of records contains a record about him or her, who wants access to this or her record, or who wants to contest the contents of the record, should write to the Freedom of Information Officer, Office of the Secretariat, 4330 East West Highway, Bethesda, MD 20814.

Record access procedures:

Request for access to records in this system may be made by writing to the Freedom of Information Officer at CPSC, 4330 East West Highway, Bethesda, MD 20814.

Contesting Procedure:

Requests for correction or amendment must be submitted in writing to the address indicated above (see “Record Access Procedures” above). Request must adequately describe the corrective action sought.

Record source categories:

Incoming Freedom of Information Act requests.

SYSTEM NAME

CPSC-30, CPSC Transit Subsidy Benefit Program

System location:

Office of Facilities Services, Consumer Product Safety Commission, 4430 East West Highway, Bethesda, MD 20814.

Categories of individuals covered by the system:

CPSC employees who are applicants and recipients of fare subsidies issued by the Department of Transportation (DOT).

Categories of records in the system:

Employee applications for fare subsidies. Applications include name, address, date of birth, last four digits of social security number, smart trip card serial number, work email address, effective date of program participation, value of fare media provided, and effective date of termination.

Authority for maintenance of the system:

Executive Order 12191 and Public Law 103-172

Purpose(s):

Fare subsidy management.

Routine uses of records maintained in the system, including categories of users and the purposes of such uses:

Used as part of a program designed to ensure eligibility for, and prevent misuse of funds. Disclosures may be made from this system to consumer reporting agencies (collecting on behalf of the United States Government) as defined in the Fair Credit Reporting Act (15 U.S.C. 1681a(f)) or the Federal Claims Collection Act of 1982 (31 U.S.C. 3701(a)(3)). Disclosure may be made to appropriate agencies, entities, and persons when (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist in connection with CPSC's efforts to respond to the suspected or confirmed compromise and prevent, minimize, or remedy such harm.

Policies and practices for storing, retrieving, accessing, retaining, and disposing of records in the system:

Storage:

Hard copy records are stored in locking file cabinets and electronic records are stored on computers in a document library on the agency's internal document management site, which is available only to staff with a need to know.

Retrievability:

Records are filed alphabetically and retrievable by employee name.

Safeguards:

Paper records are kept in locked cabinets in a secure area. Computer records are protected on document management sites available only to staff whose official duties require access.

Retention and disposal:

Electronic and hard copies of applications are retained for three years and then destroyed in accordance with General Records Schedule Number 9, Item 7.

System manager(s) and address:

Office of Information Technology, Consumer Product Safety Commission, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

Applications submitted by individuals for fare subsidies; notifications from DOT; and periodic certifications and reports regarding fare subsidies.

SYSTEM NAME

CPSC-31, Contests, Challenges, and Awards Programs

System location:

Office of Communications, Consumer Product Safety Commission, 4330 East West Highway, Bethesda, MD 20814.

Categories of individuals covered by the system:

Members of the public, including children, and companies and organizations.

Categories of records in the system:

Information in the records may include individuals' names, email addresses, age, street addresses, company names, organizations names, company or organization addresses, posters, videos, products or other submissions made by individuals for contests, challenges or awards. CPSC also requests and collects social security numbers for the winners so their payments can be processed by the U.S. government.

Authority for maintenance of the system:

15 U.S.C. 205(9b), OMB Memorandum on the Use of Challenges and Prizes to Promote Open Government, M-10-11, March 8, 2010.

Purpose(s):

CPSC hosts contests, challenges, and award programs to educate the public, including adults and children, about product safety to prevent injuries and deaths associated with product hazards, and to identify and honor people and organizations that have made significant contributions to consumer product safety.

Routine uses of records maintained in the system, including categories of users and the purposes of such uses:

Records are maintained for the contest, challenge or award program for purposes of contacting winners and finalists. Categories of users include CPSC employees and Web sites hosting challenges for CPSC.

Disclosure may be made to appropriate agencies, entities, and persons when (1) CPSC suspects or has confirmed that the security or confidentiality of information in the system of records has been compromised; (2) CPSC has determined that as a result of the suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Once the contest or challenge is completed, CPSC's Office of the Secretariat maintains for two years hard copies of posters, videos, information/photos about products that may contain contact information for the contest, challenge or award program participants. After that time, the hard copies are destroyed.

Storage:

Posters, videos or other submissions for contests, challenges or awards may be stored by CPSC for use by the agency, for use in agency displays or for use in response to requests under the Freedom of Information Act. Posters, videos or other submissions are stored in locked file cabinets in the Office of the Secretariat.

Retrievability:

Posters, videos or other submissions become the property of CPSC according to the agency's published contest rules and are not returned to the submitter. Access to the submissions may be requested to the Office of the Secretariat under the Freedom of Information Act.

Safeguards:

Posters, videos or other submissions are kept by CPSC's Office of the Secretariat in locked file cabinets.

Retention and disposal:

Posters, videos or other submissions are disposed of after two years by CPSC's Office of the Secretariat.

System manager(s) and address:

Office of Communications, 4330 East West Highway, Bethesda, MD 20814.

Notification procedure:

Freedom of Information/Privacy Act Officer, Office of the Secretariat, Consumer Product Safety Commission, 4330 East West Highway, Bethesda, MD 20814.

Record access procedures:

Same as notification.

Contesting record procedures:

Same as notification.

Record source categories:

The information is provided by the contest, challenge or award program participant, the participant's parent or the participant's company.

SYSTEM NAME

CPSC-32 Correspondence Tracking System (CTS)

System location:

Offices of the Secretariat and Small Business Ombudsman, Consumer Product Safety Commission, 430 East West Highway, Bethesda, MD 20814.

Categories of individuals covered by the system:

The categories of individuals in the CTS include members of Congress, the President of the United States, the Vice President of the United States, members of the public at large, the business community subject to Commission regulations and standards, and CPSC employees.

Categories of records in the system:

1. Members of the public at large: Individual's name, home address, home telephone number(s), personal cell phone number(s), and other miscellaneous information that an individual may include in his/her complaint, comments, or questions to the CPSC.

2. Members of the business community: Individual's name, home address, home telephone number(s), personal cell phone number(s), and other miscellaneous information that an individual may include in his/her complaint, comment, or question to the CPSC.

3. CPSC employees: Individual's name, work telephone number, and other miscellaneous information that a Commission employee may include in a response to members of Congress, the President and/or Vice President, members of the public at large, and/or the business community.

Authority for maintenance of the system:

5 U.S.C. 301 and 44 U.S.C. 3101.

Purpose(s):

The CPSC uses the Correspondence Tracking system (CTS) to store, track, and manage correspondence to and from members of Congress, the President of the United States, the Vice President of the United States, members of the public at large, the business community, and CPSC employees. This correspondence may include attachments that could contain PII from individuals (members of the public and business community at large) who contacted the Commission concerning various product safety issues affecting them, e.g., telephone number and address, etc.

Routine uses of records maintained in the system, including categories of users and the purposes of such uses:

1. To the U.S. Department of Justice when related to litigation or anticipated litigation.

2. To the appropriate Federal, State, or local investigation or enforcement agency when there is an indication of a violation or potential violation of a statute or regulation in connection with procurement.

Contesting record procedures:

Same as notification

Record source categories:

The information is provided by the contest, challenge or award program participant, the participant's parent or the participant's company.

SYSTEM NAME

CPSC-32, Correspondence Tracking System (CTS)

System location:

Offices of the Secretariat and Small Business Ombudsman, Consumer Product Safety Commission, 430 East West Highway, Bethesda, MD 20814.

Categories of individuals covered by the system:

The categories of individuals in the CTS include members of Congress, the President of the United States, the Vice President of the United States, members of the public at large, the business community subject to Commission regulations and standards, and CPSC employees.

Categories of records in the system:

1. Members of the public at large: individual's name, home address, home telephone number(s), personal cell phone number(s), and other miscellaneous information that an individual may include in his/her complaint, comments, or questions to the CPSC.

2. Members of the business community: individual's name, home address, home telephone number(s), personal cell phone number(s), and other miscellaneous information that an individual may include in his/her complaint, comment, or question to the CPSC.

3. CPSC employees: individual's name, work telephone number, and other miscellaneous information that a Commission employee may include in a response to members of Congress, the President and/or Vice President, members of the public at large, and/or the business community.

Authority for maintenance of the system:

5 U.S.C. 301 and 44 U.S.C. 3101.

Purpose(s):

The CPSC uses the Correspondence Tracking System (CTS) to store, track, and manage correspondence to and from members of Congress, the President of the United States, the Vice President of the United States, members of the public at large, the business community, and CPSC employees. This correspondence may include attachments that could contain PII from individuals (members of the public and business community at large) who contacted the Commission concerning various product safety issues affecting them, e.g., telephone number and address, etc.

Routine uses of records maintained in the system, including categories of users and the purposes of such uses:

1. To the U.S. Department of Justice when related to litigation or anticipated litigation.

2. To the appropriate Federal, State, or local investigation or enforcement agency when there is an indication of a violation or potential violation of a statute or regulation in connection with procurement.

3. To a Congressional office in response to an inquiry made at the request of the individual who is the subject of the record.

4. To the U.S. Government Accountability Office in the event of a procurement protest involving the individual.

5. To the Office of Financial Management in an effort to properly process payment of invoices.

6. To the Office of the Secretariat, Freedom of Information Officer, to properly process incoming FOIA requests in accordance with the Freedom of Information Act.

7. Disclosure may be made to appropriate agencies, entities, and persons when (a) the CPSC suspects or has confirmed that the security or confidentiality of information in the system of records has been compromised; (2) CPSC has determined that as a result of suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Storage:

The information in the CTS includes paper documents, records, and files that are stored in file cabinets, and electronic records, files, and data that are stored in the Commission's computer network databases.

Retrievability:

Paper records may be filed by and retrievable by name of the document's author or addressee or by other indicia. Computer records are indexed by, and retrievable by the names and other indicia of authors and addressees, and may permit retrieval by names elsewhere in documents.

Safeguards:

Access to the electronic files, which are housed in the Commission's computer network databases, is restricted to authorized supervisors and staff and to the Information Technology (IT) staff who maintain the Commission's computer network. Other CPSC employees and contractors may be granted access on a “need-to-know” basis. The CPSC computer network databases are protected by security protocols, which include controlled access, passwords, and other security features. Information resident on the database servers are backed-up routinely onto a hard disk array and computer based media. Back-up tapes are stored on-site and at a secured, off-site location. Hard copy records are maintained in secured file cabinets.

Retention and disposal:

There is no established record retention schedule for this system. Records will be kept indefinitely until a records schedule is established.

System manager(s) and address:

Director, Office of the Secretariat, and Small Business Ombudsman, Consumer Product Safety Commission, 4330 East West Highway, Bethesda, MD 20814.

Notification procedure:

Freedom of Information/Privacy Act Officer, Office of the Secretariat, Consumer Product Safety Commission, 4330 East West Highway, Bethesda, MD 20814.

Record access procedures:

Freedom of Information/Privacy Act Officer, Office of the Secretariat, Consumer Product Safety Commission, 4330 East West Highway, Bethesda, MD 20814.

Contesting record procedures:

Freedom of Information/Privacy Act Officer, Office of the Secretariat, Consumer Product Safety Commission, 4330 East West Highway, Bethesda, MD 20814.

Record source categories:

The sources for the information in the CTS are submitted by members of Congress, the President of the United States, the Vice President of the United States, members of the public at large, the business community subject to Commission regulations and standards, and CPSC employees. This information may include complaints, comments, or questions related to product safety issues under CPSC jurisdiction.

SYSTEM NAME

CPSC-33, International Trade Data System Risk Assessment Methodology System (ITDS/RAM)

System location:

Consumer Product Safety Commission, 4330 East West Highway, Bethesda, MD 20814

Categories of individuals covered by the system:

The system contains names, social security numbers, and addresses associated with individuals and businesses importing materials into the United States. Information on individuals is stored only when they register as the entity in the transaction; usually, this is a business entity with an associated Importer Number and business addresses.

Categories of records in the system:

1. Members of the Consumer Products Trading Community: Usually business name and address. For individuals and small businesses where an individual provides personal information, their name and address is maintained.

2. Importation transactions as reported by U.S. Customs and Border Protection (U.S. CBP) for all product areas under jurisdiction at entry summary filing and for product areas of specific concern for hazard monitoring and enforcement programs at entry filing (Cargo).

Authority for maintenance of the system:

Sec. 222 P.L. 110-314, 15 U.S.C. 2066(a).

Purpose(s):

The U.S. CPSC uses the ITDS/RAM to monitor and request examination for shipments that are potentially in violation of safety standards enforced by the Commission or potentially defective as a part of a product group that has been designated by the Commission as having properties that are hazardous. Personally Identifiable Information (PII) could be used for monitoring and requesting exams, but only between government agencies (CPSC and U.S. CBP).

Routine uses of records maintained in the system, including categories of users and the purposes of such uses:

1. To the U.S. Department of Justice when related to litigation or anticipated litigation. To the appropriate Federal enforcement agency/agencies when there is an indication of a potential violation of a statute or regulation or a predetermined hazard in connection with an importation.

2. Disclosure may be made to appropriate agencies, entities, and persons when (1) the CPSC suspects or has confirmed that the security or confidentiality of information in the system of records has been compromised; (2) the CPSC has determined that as a result of suspected or confirmed compromise there is a risk of harm to the security or integrity of this system or other systems or programs (whether maintained by CPSC or another agency or entity) that rely upon the compromised information; and (3) the disclosure made to such agencies, entities, and persons is reasonably necessary to assist in connection with the CPSC's efforts to respond to the suspected or confirmed compromise and prevent, minimize, or remedy such harm.

Policies and practices for storing, retrieving, accessing, retaining, and disposing of records in the system:

Storage:

The information in the ITDS/RAM includes electronic records, files, and data that are stored in the Commission's computer network databases.

Retrievability:

Computer records are indexed by, and retrievable by, names and addresses, and may permit retrieval by names elsewhere in documents.

Safeguards:

Access to electronic files, which are housed in the Commission's computer network databases, is restricted to authorized supervisors and staff and to designated Information Technology (IT) staff who maintain the Commission's computer network. CPSC project contractors may be granted access with appropriate clearance and only in support of the performance of the system. The CPSC computer network databases are protected by security protocols, which include controlled access, passwords, and other security features. Information resident on the database servers is backed-up routinely onto a hard disk array and computer based media. Back-up tapes are stored on-site and at a secured, off-site location. Hard copy records are maintained in secured file cabinets.

Retention and disposal:

There is no established record retention schedule for this system. Records will be kept indefinitely until a records schedule is established and approved and then in accordance with the applicable schedule.

System manager(s) and address:

Director, Office of Import Surveillance and Inspection, Consumer Product Safety Commission, 4330 East West Highway, Bethesda, MD 20814.

Notification procedure:

Freedom of Information/Privacy Act Officer, Office of the Secretariat, Consumer Product Safety Commission, 4330 East West Highway, Bethesda, MD 20814.

Record access procedures:

Freedom of Information/Privacy Act Officer, Office of the Secretariat, Consumer Product Safety Commission, 4330 East West Highway, Bethesda, MD 20814.

Contesting record procedures:

Freedom of Information/Privacy Act Officer, Office of the Secretariat, Consumer Product Safety Commission, 4330 East West Highway, Bethesda, MD 20814.

Record source categories:

Personally Identifiable Information (PII) is provided and updated on a periodic basis by U.S. CBP.

Dated: May 15, 2012.
Todd A. Stevenson,
Secretary, Consumer Product Safety Commission.

[FR Doc. 2012-12060 Filed 5-17-12; 8:45 am]

BILLING CODE 6355-01-P